DEPARTMENT OF TRANSPORTATION

Federal Aviation Administration

14 CFR Part 71

[Docket No. FAA-2022-0248; Airspace Docket No. 22-AGL-4]

RIN 2120-AA66

Amendment of VOR Federal Airways V-24, V-78, V-181, and V-398; and Establishment of Area Navigation (RNAV) Route T-462; in the Vicinity of Watertown, SD

AGENCY: Federal Aviation Administration (FAA), DOT.

ACTION: Final rule.

SUMMARY: This action amends VHF Omnidirectional Range (VOR) Federal airways V-24, V-78, V-181, and V-398, and establishes RNAV route T-462 in the vicinity of Watertown, SD. This action is necessary due to the planned decommissioning of the VOR portion of the Watertown, SD, VOR/Tactical Air Navigation (VORTAC) which provides navigational guidance to portions of the affected VOR Federal airways. The Watertown VOR is being decommissioned as part of the FAA's VOR Minimum Operational Network (VOR MON) program.

DATES: Effective date 0901 UTC, December 29, 2022. The Director of the Federal Register approves this incorporation by reference action under 1 CFR part 51, subject to the annual revision of FAA Order JO 7400.11 and publication of conforming amendments.

ADDRESSES: FAA Order JO 7400.11G, Airspace Designations and Reporting Points, and subsequent amendments can be viewed online at www.faa.gov/air_traffic/publications/. For further information, you can contact the Rules and Regulations Group, Federal Aviation Administration, 800 Independence Avenue SW, Washington, DC 20591; telephone: (202) 267-8783.

FOR FURTHER INFORMATION CONTACT: Colby Abbott, Rules and Regulations Group, Office of Policy, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it modifies the route structure as necessary to preserve the safe and efficient flow of air traffic within the National Airspace System.

History

The FAA published a notice of proposed rulemaking for Docket No. FAA-2022-0248 in the Federal Register (87 FR 17038; March 25, 2022), amending VOR Federal airways V-24, V-78, V-181, and V-398, and establishing RNAV route T-462. The proposed amendment and establishment actions were due to the planned decommissioning of the VOR portion of the Watertown, SD, VORTAC NAVAID. Interested parties were invited to participate in this rulemaking effort by submitting written comments on the proposal. No comments were received.

VOR Federal airways are published in paragraph 6010(a) and United States Area Navigation Routes are published in paragraph 6011 of FAA Order JO 7400.11G, dated August 19, 2022, and effective September 15, 2022, which is incorporated by reference in 14 CFR 71.1. The Air Traffic Service (ATS) routes listed in this document will be published subsequently in FAA Order JO 7400.11.

Availability and Summary of Documents for Incorporation by Reference

This document amends FAA Order JO 7400.11G, Airspace Designations and Reporting Points, dated August 19, 2022, and effective September 15, 2022. FAA Order JO 7400.11G is publicly available as listed in the ADDRESSES section of this document. FAA Order JO 7400.11G lists Class A, B, C, D, and E airspace areas, air traffic service routes, and reporting points.

The Rule

This action amends 14 CFR part 71 by amending V-24, V-78, V-181, and V-398, and establishing T-462 due to the planned decommissioning of the VOR portion of the Watertown, SD, VORTAC NAVAID. The ATS route actions are described below.

V-24: V-24 extends between the Aberdeen, SD, VOR/Distance Measuring Equipment (VOR/DME) and the Rochester, MN, VOR/DME; between the Janesville, WI, VOR/DME and the Northbrook, IL, VOR/DME; and between the Peotone, IL, VORTAC and the Brickyard, IN, VORTAC. The airway segment between the Aberdeen, SD, VOR/DME and the Redwood Falls, MN, VOR/DME is removed. This results in the first segment of the airway extending between the Redwood Falls, MN, VOR/DME and the Rochester, MN, VOR/DME. The second and third segments of the airway remain unchanged.

V-78: V-78 extends between the Watertown, SD, VORTAC and the Escanaba, MI, VOR/DME; and between the Pellston, MI, VORTAC and the Saginaw, MI, VOR/DME. The airway segment between the Watertown, SD, VORTAC and the Darwin, MN, VORTAC is removed. This results in the first segment of the airway extending between the Darwin, MN, VORTAC and the Escanaba, MI, VOR/DME. The second segment of the airway remains unchanged.

V-181: V-181 extends between the Kirksville, MO, VORTAC and the Grand Forks, ND, VOR/DME. The airway segment between the Sioux Falls, SD, VORTAC and the Fargo, ND, VOR/DME is removed. This results in the airway extending between the Kirksville, MO, VORTAC and the Sioux Falls, SD, VORTAC; and between the Fargo, ND, VOR/DME and the Grand Forks, ND, VOR/DME.

V-398: V-398 extends between the Aberdeen, SD, VOR/DME and the Rochester, MN, VOR/DME. The airway segment between the Aberdeen, SD, VOR/DME and the Redwood Falls, MN, VOR/DME is removed. This results in the airway extending between the Redwood Falls, MN, VOR/DME and the Rochester, MN, VOR/DME.

T-462: T-462 is a new RNAV route that extends between the Bismarck, ND, VOR/DME and the GENEO, MN, waypoint (WP) located near the Darwin, MN, VOR. T-462 is established to mitigate the removal of the V-24 airway segment between the Aberdeen, SD, VOR/DME and the Watertown, SD, VORTAC and the removal of the V-78 airway segment between the Watertown, SD, VORTAC and the Darwin, MN, VORTAC. The new route also provides navigational options in areas of limited or no radar coverage to pilots whose aircraft are RNAV equipped. The full route description of T-462 is listed in the amendments to part 71 set forth below.

All navigational aid radials listed in the VOR Federal airway descriptions below are unchanged and stated in True degrees.

FAA Order JO 7400.11, Airspace Designations and Reporting Points, is published yearly and effective on September 15.

Regulatory Notices and Analyses

The FAA has determined that this regulation only involves an established body of technical regulations for which frequent and routine amendments are necessary to keep them operationally current. It, therefore: (1) is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

Environmental Review

The FAA has determined that this action of amending VOR Federal airways V-24, V-78, V-181, and V-398, and establishing RNAV route T-462, due to the planned decommissioning of the Watertown, SD, VOR NAVAID, qualifies for categorical exclusion under the National Environmental Policy Act (42 U.S.C. 4321 et seq.) and its implementing regulations at 40 CFR part 1500, and in accordance with FAA Order 1050.1F, Environmental Impacts: Policies and Procedures, paragraph 5-6.5a, which categorically excludes from further environmental impact review rulemaking actions that designate or modify classes of airspace areas, airways, routes, and reporting points (see 14 CFR part 71, Designation of Class A, B, C, D, and E Airspace Areas; Air Traffic Service Routes; and Reporting Points) and paragraph 5-6.5k, which categorically excludes from further environmental impact review the publication of existing air traffic control procedures that do not essentially change existing tracks, create new tracks, change altitude, or change concentration of aircraft on these tracks. As such, this action is not expected to result in any potentially significant environmental impacts. In accordance with FAA Order 1050.1F, paragraph 5-2 regarding Extraordinary Circumstances, the FAA has reviewed this action for factors and circumstances in which a normally categorically excluded action may have a significant environmental impact requiring further analysis. The FAA has determined that no extraordinary circumstances exist that warrant preparation of an environmental assessment or environmental impact study.

List of Subjects in 14 CFR Part 71

Airspace, Incorporation by reference, Navigation (air).

The Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11G, Airspace Designations and Reporting Points, dated August 19, 2022, and effective September 15, 2022, is amended as follows:

Paragraph 6010(a) Domestic VOR Federal airways.

* * * * *

V-24 [Amended]

From Redwood Falls, MN; to Rochester, MN. From Janesville, WI; INT Janesville 112° and Northbrook, IL, 291° radials; to Northbrook. From Peotone, IL; INT Peotone 152° and Brickyard, IN, 312° radials; to Brickyard.

* * * * *

V-78 [Amended]

From Darwin, MN; Gopher, MN; INT Gopher 091° and Eau Claire, WI, 290° radials; Eau Claire; Rhinelander, WI; Iron Mountain, MI; to Escanaba, MI. From Pellston, MI; Alpena, MI; INT Alpena 232° and Saginaw, MI, 353° radials; to Saginaw.

* * * * *

V-181 [Amended]

From Kirksville, MO; Lamoni, IA; Omaha, IA; Norfolk, NE; Yankton, SD; to Sioux Falls, SD. From Fargo, ND; to Grand Forks, ND.

* * * * *

V-398 [Amended]

From Redwood Falls, MN; to Rochester, MN.

* * * * *

Paragraph 6011 United States Area Navigation Routes.

* * * * *

T-462 Bismarck, ND (BIS) to GENEO, MN [New]
Bismarck, ND (BIS) | VOR/DME | (Lat. 46°45′42.34″ N, long. 100°39′55.47″ W)
Aberdeen, SD (ABR) | VOR/DME | (Lat. 45°25′02.48″ N, long. 098°22′07.39″ W)
FFORT, SD | WP | (Lat. 44°58′47.45″ N, long. 097°08′30.36″ W)
GENEO, MN | WP | (Lat. 45°05′15.37″ N, long. 094°27′14.30″ W)

Issued in Washington, DC, on October 17, 2022.
Scott M. Rosenbloom,
Manager, Airspace Rules and Regulations Group.

[FR Doc. 2022-22780 Filed 10-25-22; 8:45 am]

BILLING CODE 4910-13-P